DEPARTMENT OF TRANSPORTATION

Federal Aviation Administration

14 CFR Part 39

[Docket No. FAA-2020-0723; Project Identifier AD-2020-00586-Q; Amendment 39-21192; AD 2020-16-08]

RIN 2120-AA64

Airworthiness Directives; Aspen Avionics, Inc.

AGENCY: Federal Aviation Administration (FAA), DOT.

ACTION: Final rule; request for comments.

SUMMARY: The FAA is adopting a new airworthiness directive (AD) for certain Aspen Avionics, Inc., Evolution Flight Display (EFD) EFD1000 Emergency Backup Display, EFD1000 Multi-Function Display, and EFD1000 Primary Flight Display systems installed on various airplanes. This AD imposes operating restrictions on these display systems by revising the Limitations section of the airplane flight manual (AFM). This AD was prompted by an automatic reset occurring when the display internal monitor detects a potential fault, causing intermittent loss of airspeed, attitude, and altitude information during flight. The FAA is issuing this AD to address the unsafe condition on these products.

DATES: This AD is effective August 17, 2020.

The FAA must receive comments on this AD by September 14, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

Examining the AD Docket

You may examine the AD docket on the internet at https://www.regulations.gov by searching for and locating Docket No. FAA-2020-0723; or in person at Docket Operations between 9 a.m. and 5 p.m., Monday through Friday, except Federal holidays. The AD docket contains this final rule, the regulatory evaluation, any comments received, and other information. The street address for the Docket Operations is listed above. Comments will be available in the AD docket shortly after receipt.

For service information identified in this final rule, contact Aspen Avionics, Inc. at either address: 5001 Indian School Rd. NE, Suite 100, Albuquerque, NM 87110; or 19820 N 7th Street, Suite 150, Phoenix, AZ 85024; telephone: 1 (888) 992-7736; internet: https://aspenavionics.com/contact/.

FOR FURTHER INFORMATION CONTACT: Mahmood Shah, Aerospace Engineer, Fort Worth ACO Branch, FAA, 10101 Hillwood Pkwy, Fort Worth, TX 76177; phone: 817-222-5133; fax: 817-222-5960; email: mahmood.shah@faa.gov.

SUPPLEMENTARY INFORMATION:

Discussion

On February 25, 2020, Aspen Avionics, Inc. (Aspen), notified the FAA of 35 instances of software interacting with a graphics processing chip defect and causing an automatic reset to occur on Aspen EFD1000 Emergency Backup Display, EFD1000 Multi-Function Display, and EFD1000 Primary Flight Display systems. The reset occurs when the display internal monitor detects a potential fault. The display will go black and then it will restart, which lasts about 50 seconds. In installations where multiple Aspen EFDs serve as the primary and backup attitude, altitude, and airspeed displays instead of independent instruments; this repeat resetting may affect both Aspen units, resulting in loss of all attitude, altitude, and airspeed information during the reset period. Loss of all airspeed, attitude, and altitude information during flight may cause a loss of control of the airplane in instrument meteorological conditions (IMC) or at night. The actions required by this AD will restrict operations to flight under visual flight rules (VFR) and prohibit night operations to allow safe operation in the event of a loss of flight display functionality.

Related Service Information

The FAA reviewed Aspen Operator Advisory OA2020-01, dated March 3, 2020. This document advises operators of the automatic reset event and provides recommended operating limitations.

The FAA also reviewed Aspen Service Bulletin Number: SB2020-01, dated April 1, 2020. This document provides instructions for updating the EFD software to correct the automatic reset issue. This AD does not apply to airplanes that are compliant with this service information.

FAA's Determination

The FAA is issuing this AD because it evaluated all the relevant information and determined the unsafe condition described previously is likely to exist or develop in other products of the same type design.

AD Requirements

This AD requires revising the AFM limitations section to add language restricting operations to Day VFR only, either by making a pen and ink change or by inserting a copy of this AD.

FAA's Justification and Determination of the Effective Date

An unsafe condition exists that requires the immediate adoption of this AD without providing an opportunity for public comments prior to adoption. The FAA has found that the risk to the flying public justifies waiving notice and comment prior to adoption of this rule because intermittent loss of attitude, altitude, and airspeed information during flight could result in loss of control of the airplane in IMC or at night. The required corrective actions must be accomplished before further flight, which does not allow the time necessary for the public to comment and for publication of the final rule. Therefore, the FAA finds good cause that notice and opportunity for prior public comment are impracticable. In addition, for the reason stated above, the FAA finds that good cause exists for making this amendment effective in less than 30 days.

Comments Invited

This AD is a final rule that involves requirements affecting flight safety and was not preceded by notice and an opportunity for public comment. However, we invite you to send any written data, views, or arguments about this final rule. Send your comments to an address listed under the ADDRESSES section. Include the Docket Number FAA-2020-0711 and Product Identifier MCAI-2020-00719-A at the beginning of your comments.

Except for Confidential Business Information (CBI) as described in the following paragraph, and other information as described in 14 CFR 11.35, the FAA will post all comments we receive, without change, to https://www.regulations.gov, including any personal information you provide. The FAA will also post a report summarizing each substantive verbal contact we receive about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Mahmood Shah, Aerospace Engineer, Fort Worth ACO Branch, FAA, 10101 Hillwood Pkwy, Fort Worth, TX 76177. Any commentary that the FAA receives which is not specifically designated as CBI will be placed in the public docket for this rulemaking.

Costs of Compliance

The FAA estimates that this AD affects 900 airplanes of U.S. registry.

The FAA estimates the following costs to comply with this AD:

Estimated Costs
Action | Labor cost | Parts cost | Cost per product | Cost on U.S. operators
Revise Flight Manual | 0.25 work-hour × $85.00 per hour = $21.25 | $0.00 | $21.25 | $19,125.00

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-16-08 Aspen Avionics, Inc.: Amendment 39-21192; Docket No. FAA-2020-0723; Project Identifier AD-2020-00586-Q.

(a) Effective Date

This AD is effective August 17, 2020.

(b) Affected ADs

None.

(c) Applicability

(1) This AD applies to Aspen Avionics, Inc., Evolution Flight Display (EFD) EFD1000 Primary Flight Display part number (P/N) 910-00001-011, EFD1000 Multi-Function Display P/N 910-00001-012, and EFD1000 Emergency Backup Display P/N 910-00001-017 units that meet both conditions in paragraphs (c)(1)(i) and (ii) of this AD.

(i) Software version 2.10 or 2.10.1 is installed;

(ii) Independent attitude, altitude, and airspeed back-up instruments are not installed.

(2) These flight display units may be installed on, but are not limited to, the following airplanes, certificated in any category:

(i) Aermacchi S.p.A. Model S.205-18/F, S.205-18/R, S.205-20/F, S.205-20/R, S.205-22/R, S.208, and S.208A airplanes;

(ii) Aeronautica Macchi S.p.A. Model AL 60 (previously designated as Model LASA 60), AL 60-B, AL 60-C5, and AL 60-F5 airplanes;

(iii) Aerostar Aircraft Corporation Model PA-60-600 (Aerostar 600), PA-60-601 (Aerostar 601), PA-60-601P (Aerostar 601P), and PA-60-602P (Aerostar 602P) airplanes;

(iv) Alexandria Aircraft, LLC (type certificate previously held by Bellanca, Inc.), Model 14-19, 14-19-2, 14-19-3, 14-19-3A, 17-30, 17-30A, 17-31, 17-31A, 17-31ATC, and 17-31TC airplanes;

(v) American Champion Aircraft Corp. Model 402, 7ECA, 7GCAA, 7GCBC, 7KCAB, 8GCBC, and 8KCAB airplanes;

(vi) CEAPR (type certificate previously held by APEX) Model CAP 10 B airplanes;

(vii) Cirrus Design Corporation Model SR20 and SR22 airplanes;

(viii) Commander Aircraft Corporation (type certificate previously held by CPAC, Inc.) Model 112, 112B, 112TC, 112TCA, 114, 114A, 114B, and 114TC airplanes;

(ix) Consolidated Vultee Aircraft Corporation, Stinson Division Model V-77 (Army AT-19) airplanes;

(x) Cougar Aircraft Corporation (type certificate previously held by SOCATA, S.A.) Model GA-7 airplanes;

(xi) Diamond Aircraft Industries Inc. Model DA20-A1 and DA20-C1 airplanes;

(xii) Diamond Aircraft Industries Inc. (type certificate previously held by Diamond Aircraft Industries GmbH) Model DA 40 and DA 40 F airplanes;

(xiii) Discovery Aviation, Inc. (type certificate previously held by Liberty Aerospace Incorporated), Model XL-2 airplanes;

(xiv) Dynac Aerospace Corporation Model Aero Commander 100, Aero Commander 100A, Aero Commander 100-180, Volaire 10, and Volaire 10A airplanes;

(xv) EADS-PZL “Warszawa-Okȩcie” S.A. (type certificate previously held by Panstwowe Zaklady Lotnicze) Model PZL-104 WILGA 80, PZL-104M WILGA 2000, PZL-104MA WILGA 2000, PZL-KOLIBER 150A, and PZL-KOLIBER 160A airplanes;

(xvi) Extra Flugzeugproduktions- und Vertriebs- GmbH (type certificate previously held by Extra Flugzeugbau GmbH) Model EA 300, EA 300/L, EA 300/S, EA 300/200, and EA 300/LC airplanes;

(xvii) Frakes Aviation Model G-44 (Army OA-14, Navy J4F-2), G-44A, and SCAN Type 30 airplanes;

(xviii) FS 2003 Corporation (type certificate previously held by The New Piper Aircraft, Inc.) Model PA-12 and PA-12S airplanes;

(xix) GROB Aircraft AG (type certificate previously held by GROB Aerospace GmbH i.l.) Model G115, G115A, G115B, G115C, G115C2, G115D, G115D2, G115EG, and G120A airplanes;

(xx) Helio Aircraft, LLC, Model H-250, H-295 (USAF U-10D), H-391 (USAF YL-24), H-391B, H-395 (USAF L-28A and U-10B), H-395A, H-700, H-800, HST-550, HST-550A (USAF AU-24A), and HT-295 airplanes;

(xxi) Interceptor Aviation Inc. (type certificate previously held by Interceptor Aircraft Corporation) Model 200, 200A, 200B, 200C, 200D, and 400 airplanes;

(xxii) Lockheed Martin Aeronautics Company Model 402-2 airplanes;

(xxiii) Maule Aerospace Technology, Inc. (type certificate previously held by Maule Aircraft Corporation), Model Bee Dee M-4, M-4, M-4C, M-4S, M-4T, M-4-180C, M-4-180S, M-4-180T, M-4-210, M-4-210C, M-4-210S, M-4-210T, M-4-220, M-4-220C, M-4-220S, M-4-220T, M-5-180C, M-5-200, M-5-210C, M-5-210TC, M-5-220C, M-5-235C, M-6-180, M-6-235, M-7-235, M-7-235A, M-7-235B, M-7-235C, M-7-260, M-7-260C, M-7-420A, M-7-420AC, M-8-235, MT-7-235, MT-7-260, MT-7-420, MX-7-160, MX-7-160C, MX-7-180, MX-7-180A, MX-7-180AC, MX-7-180B, MX-7-180C, MX-7-235, MX-7-420, MXT-7-160, MXT-7-180, and MXT-7-180A airplanes;

(xxiv) Mooney Aircraft Corporation Model M22 airplanes;

(xxv) Mooney International Corporation (type certificate previously held by Mooney Aviation Company, Inc.) Model M20, M20A, M20B, M20C, M20D, M20E, M20F, M20G, M20J, M20K, M20L, M20M, M20R, M20S, M20TN, M20U, and M20V airplanes;

(xxvi) Pacific Aerospace Ltd. (type certificate previously held by Found Aircraft Canada, Inc.) Model FBA-2C, FBA-2C1, and FBA-2C2 airplanes;

(xxvii) Pilatus Aircraft Ltd. Model PC-6, PC-6-H1, PC-6-H2, PC-6/350, PC-6/350-H1, PC-6/350-H2, PC6/A, PC-6/A-H1, PC-6/A-H2, PC-6/B-H2, PC-6/B1-H2, PC-6/B2-H2, PC-6/B2-H4, PC-6/C-H2, and PC-6/C1-H2 airplanes;

(xxviii) Piper Aircraft, Inc. (type certificate previously held by The New Piper Aircraft, Inc.), Model PA-18, PA-18 “105” (Special), PA-18 “125” (Army L-21A), PA-18 “135” (Army L-21B), PA-18 “150,” PA-18A, PA-18A “135,” PA-18A “150,” PA-18AS “125,” PA-18AS “135,” PA-18AS “150,” PA-18S, PA-18S “105” (Special), PA-18S “125,” PA-18S “135,” PA-18S “150,” PA-19 (Army L-18C), PA-19S, PA-20, PA-20 “115,” PA-20 “135,” PA-20S, PA-20S “115,” PA-20S “135,” PA-22, PA-22-108, PA-22-135, PA-22-150, PA-22-160, PA-22S-135, PA-22S-150, PA-22S-160, PA-23, PA-23-160, PA-23-235, PA-23-250, PA-24, PA-24-250, PA-24-260, PA-24-400, PA-28-140, PA-28-150, PA-28-151, PA-28-160, PA-28-161, PA-28-180, PA-28-181, PA-28-201T, PA-28-235, PA-28-236, PA-28R-180, PA-28R-200, PA-28R-201, PA-28R-201T, PA-28RT-201, PA-28RT-201T, PA-28S-160, PA-28S-180, PA-30, PA-32-260, PA-32-300, PA-32-301, PA-32-301FT, PA-32-301T, PA-32-301XTC, PA-32R-300, PA-32R-301 (HP), PA-32R-301 (SP), PA-32R-301T, PA-32RT-300, PA-32RT-300T, PA-32S-300, PA-34-200, PA-34-200T, PA-34-220T, PA-39, PA-40, PA-44-180, PA-44-180T, PA-46-310P, and PA-46-350P airplanes;

(xxix) Polskie Zaklady Lotnicze Spolka zo.o. (type certificate previously held by PZL MIELEC) Model PZL M26 01 airplanes;

(xxx) Revo, Incorporated Model Colonial C-1, Colonial C-2, Lake LA-4, Lake LA-4A, Lake LA-4P, Lake LA-4-200, and Lake Model 250 airplanes;

(xxxi) Robert E. Rust, Jr. (type certificate previously held by Robert E. Rust), Model DHC-1 Chipmunk Mk 21, DHC-1 Chipmunk Mk 22, and DHC-1 Chipmunk Mk 22A airplanes;

(xxxii) Sierra Hotel Aero, Inc. (type certificate previously held by Navion Aircraft LLC), Model Navion (Army L-17A), Navion A (Army L-17B and L-17C), Navion B, Navion D, Navion E, Navion F, Navion G, and Navion H airplanes;

(xxxiii) Slingsby Aviation Ltd. Model T67M260 and T67M260-T3A airplanes;

(xxxiv) SOCATA (type certificate previously held by Socata Groupe Aerospatiale) Model MS 880B, MS 885, MS 892A-150, MS 892E-150, MS 893A, MS 893E, MS 894A, MS 894E, Rallye 100S, Rallye 150ST, Rallye 150T, Rallye 235C, Rallye 235E, TB 9, TB 10, TB 20, TB 21, and TB 200 airplanes;

(xxxv) Spartan Aircraft Company Model 7W (Army UC-71) airplanes;

(xxxvi) SST FLUGTECHNIK GmbH Model EA 400 and EA 400-500 airplanes;

(xxxvii) Swift Museum Foundation, Inc. (type certificate previously held by Univair Aircraft Corporation), Model GC-1A and GC-1B airplanes;

(xxxviii) Symphony Aircraft Industries Inc. (type certificate previously held by Ostmecklenburgische Flugzeugbau GmbH), Model OMF-100-160 and SA 160 airplanes;

(xxxix) Textron Aviation Inc. (type certificate previously held by Cessna Aircraft Company) Model 120, 140, 140A, 150, 150A, 150B, 150C, 150D, 150E, 150F, 150G, 150H, 150J, 150K, 150L, 150M, 152, 170, 170A, 170B, 172, 172A, 172B, 172C, 172D, 172E, 172F (USAF T-41A), 172G, 172H (USAF T-41A), 172I, 172K, 172L, 172M, 172N, 172P, 172Q, 172R, 172RG, 172S, 175, 175A, 175B, 175C, 177, 177A, 177B, 177RG, 180, 180A, 180B, 180C, 180D, 180E, 180F, 180G, 180H, 180J, 180K, 182, 182A, 182B, 182C, 182D, 182E, 182F, 182G, 182H, 182J, 182K, 182L, 182M, 182N, 182P, 182Q, 182R, 182S, 182T, 185, 185A, 185B, 185C, 185D, 185E, 206, 206H, 207, 207A, 210, 210A, 210B, 210C, 210D, 210E, 210F, 210G, 210H, 210J, 210K, 210L, 210M, 210N, 210R, 210-5 (205), 210-5A (205A), 310, 310A (USAF U-3A), 310B, 310C, 310D, 310E (USAF U-3B), 310F, 310G, 310H, 310I, 310J, 310J-1, 310K, 310L, 310N, 310P, 310Q, 310R, 320, 320A, 320B, 320C, 320D, 320E, 320F, 320-1, 335, 336, 337, 337A, 337B, 340, 340A, A150K, A150L, A150M, A152, A185E, A185F, E310H, E310J, LC40-550FG, LC41-550FG, LC42-550FG, P172D, P206, P206A, P206B, P206C, P206D, P206E, P210N, P210R, R172E (USAF T-41B, USAF T-41C and D), R172F (USAF T-41D), R172G (USAF T-41C and D), R172H (USAF T-41D), R172J, R172K, R182, T182, T182T, T206H, T207, T207A, T210F, T210G, T210H, T210J, T210K, T210L, T210M, T210N, T210R, T303, T310P, T310Q, T310R, TP206A, TP206B, TP206C, TP206D, TP206E, TR182, TU206A, TU206B, TU206C, TU206D, TU206E, TU206F, TU206G, U206, U206A, U206B, U206C, U206D, U206E, U206F, and U206G airplanes;

(xl) Textron Aviation Inc. (type certificate previously held by Beechcraft Corporation), Model 19A, 23, 35, 35R, 35-33, 35-A33, 35-B33, 35-C33, 35-C33A, 36, 45 (YT-34), 50 (L-23A), 56TC, 58, 58A, 58P, 58PA, 58TC, 58TCA, 76, 95, 95-55, 95-A55, 95-B55, 95-B55A, 95-B55B (T-42), 95-C55, 95-C55A, A23, A23A, A23-19, A23-24, A24, A24R, A35, A36, A36TC, A45 (T-34A, B-45), A56TC, B19, B23, B24R, B35, B36TC, B50 (L-23B), B95, B95A, C23, C24R, C35, C50, D35, D45 (T-34B), D50 (L-23E), D50A, D50B, D50C, D50E, D50E-5990, D55, D55A, D95A, E33, E33A, E33C, E35, E50 (L-23D, RL-23D), E55, E55A, E95, F33, F33A, F33C, F35, F50, G33, G35, G50, H35, H50, J35, J50, K35, M19A, M35, N35, P35, S35, V35, V35A, and V35B airplanes;

(xli) The Boeing Company (type certificate previously held by Rockwell International) Model AT-6 (SNJ-2), AT-6A (SNJ-3), AT-6B, AT-6C (SNJ-4), AT-6D (SNJ-5), AT-6F (SNJ-6, SNJ-7), BC-1A, and T-6G airplanes;

(xlii) The King's Engineering Fellowship (TKEF) Model 44 airplanes;

(xliii) The Waco Aircraft Company Model YMF airplanes;

(xliv) Topcub Aircraft, Inc., Model CC18-180 and CC18-180A airplanes;

(xlv) True Flight Holdings LLC (type certificate previously held by Tiger Aircraft LLC) Model AA-1, AA-1A, AA-1B, AA-1C, AA-5, AA-5A, AA-5B, and AG-5B airplanes;

(xlvi) Twin Commander Aircraft LLC (type certificate previously held by Twin Commander Aircraft Corporation) Model 500, 520, 560, and 560A airplanes;

(xlvii) Univair Aircraft Corporation Model 108, 108-1, 108-2, 108-3, and 108-5 airplanes;

(xlviii) Viking Air Limited (type certificate previously held by Bombardier Inc. and deHavilland Inc.) Model DHC-2 Mk. I, DHC-2 Mk. II, and DHC-2 Mk. III airplanes;

(xlix) Vulcanair S.p.A. (type certificate previously held by Partenavia Costruzioni Aeronautiche S.p.A.) Model AP68TP-300 “Spartacus,” AP68TP-600 “Viator,” P.68, P.68 “Observer,” P.68 “Observer 2,” P.68B, P.68C, P.68C-TC, and P.68TC “Observer” airplanes;

(l) WSK PZL Mielec and OBR SK Mielec Model PZL M20 03 airplanes;

(li) W.Z.D. Enterprises Inc. (type certificate previously held by JGS Properties, LLC) Model 11A and 11E airplanes;

(lii) Zenair Ltd. Model CH2000 airplanes; and

(liii) Zlin Aircraft a.s. (type certificate previously held by Moravan a.s.) Model Z-143L and Z-242L airplanes.

(d) Subject

Joint Aircraft System Component (JASC)/Air Transport Association (ATA) of America Code 3410, FLIGHT ENVIRONMENT DATA; 3420, ATTITUDE AND DIRECTION DATA SYSTEM.

(e) Unsafe Condition

This AD was prompted by an automatic reset occurring when the display internal monitor detects a potential fault causing intermittent loss of airspeed, attitude, and altitude information during flight. The FAA is issuing this AD to address the software interacting with a graphics processing chip defect. The unsafe condition, if not addressed, could result in intermittent loss of airspeed, attitude, and altitude information during flight with consequent loss of airplane control.

(f) Compliance

Comply with this AD within the compliance times specified, unless already done.

(g) Required Actions

(1) Before further flight, revise the limitations section of the airplane flight manual (AFM) for your airplane by inserting a copy of this AD or by making a pen and ink change to add: “Operation under Instrument Flight Rules (IFR) or night Visual Flight Rules (VFR) is prohibited.”

(2) The action required by paragraph (g)(1) of this AD may be performed by the owner/operator (pilot) holding at least a private pilot certificate and must be entered into the aircraft records showing compliance with this AD in accordance with 14 CFR 43.9(a)(1) through (4) and 14 CFR 91.417(a)(2)(v). The record must be maintained as required by 14 CFR 91.417. This authority is not applicable to aircraft being operated under 14 CFR part 119.

(h) Special Flight Permit

Special flight permits are prohibited.

(i) Alternative Methods of Compliance (AMOCs)

(1) The Manager, Fort Worth ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j).

(2) Before using any approved AMOC, notify your appropriate principal inspector, or lacking a principal inspector, the manager of the local flight standards district office/certificate holding district office.

(j) Related Information

For more information about this AD, contact Mahmood Shah, Aerospace Engineer, Fort Worth ACO Branch, FAA, 10101 Hillwood Pkwy, Fort Worth, TX 76177; phone: 817-222-5133; fax: 817-222-5960; email: mahmood.shah@faa.gov.

Issued on July 24, 2020.
Lance T. Gant,
Director, Compliance & Airworthiness Division, Aircraft Certification Service.

[FR Doc. 2020-16592 Filed 7-30-20; 8:45 am]

BILLING CODE 4910-13-P